ENVIRONMENTAL PROTECTION AGENCY

[EPA-HQ-O-PA-2004-0010; FRL-8042-8]

Agency Information Collection Activities; Submission to OMB for Review and Approval; Comment Request; Spill Prevention, Control and Countermeasure (SPCC) Plans (Renewal), EPA ICR No. 0328.11, OMB Control No. 2050-0021

AGENCY: Environmental Protection Agency.

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before April 7, 2006.

ADDRESSES: Submit your comments, referencing Docket ID No. EPA-HQ-OPA-2004-0010, to (1) EPA online using www.regulations.gov (our preferred method), by e-mail to superfund.docket@epa.gov, or by mail to: EPA Docket Center, Environmental Protection Agency, Superfund Docket, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Hugo Paul Fleischman, EPA/OSWER/OEM, Mail Code 5104A, Environmental Protection Agency, 1200 Pennsylvania Ave., NW., Washington, DC 20460; telephone number: 202-564-1968; fax number: 202-564-2625; e-mail address: fleischman.hugo@epa.gov.

SUPPLEMENTARY INFORMATION: EPA has submitted the following ICR to OMB for review and approval according to the procedures prescribed in 5 CFR 1320.12. On December 13, 2004 (69 FR 72191), EPA sought comments on this ICR pursuant to 5 CFR 1320.8(d). EPA received two relevant comments during the comment period, which are addressed in the ICR. Any additional comments on this ICR should be submitted to EPA and OMB within 30 days of this notice.

EPA has established a public docket for this ICR under Docket ID No. EPA-HQ-OPA-2004-0010, which is available for online viewing at www.regulations.gov, or in person viewing at the Superfund Docket in the EPA Docket Center (EPA/DC), EPA West, Room B102, 1301 Constitution Ave., NW., Washington, DC. The EPA/DC Public Reading Room is open from 8:30 a.m. to 4:30 p.m., Monday through Friday, excluding legal holidays. The telephone number for the Reading Room is (202) 566-1744, and the telephone number for the Superfund Docket is (202) 566-0276.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, CBI, or other information whose public disclosure is restricted by statute. For further information about the electronic docket, go to www.regulations.gov.

Title: Spill Prevention, Control and Countermeasure (SPCC) Plans (Renewal).

ICR numbers: EPA ICR No. 0328.11, OMB Control No. 2050-0021.

ICR Status: This ICR is scheduled to expire on February 28, 2006. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The primary data collection activities required by the Oil Pollution Prevention regulation (40 CFR part 112) are the preparation and maintenance of the SPCC Plan along with preparing records of inspections and tests. In preparing a Plan, the owner or operator of a new facility must prepare and implement an SPCC Plan in accordance with the guidelines set forth in 40 CFR part 112 before beginning facility operations. Section 112.3 requires the owner or operator to maintain a copy of the SPCC Plan at the facility, if the facility is normally attended for at least four hours per day or, if not, at the nearest field office. In the event of certain discharges of oil into navigable waters, a facility owner or operator must submit information described in § 112.4(a) to the Regional Administrator within 60 days. Additionally, the facility owner or operator must amend his Plan in accordance with § 112.7 whenever there is a change in the facility's design, construction, operation, and maintenance that materially affects the facility's potential to discharge oil into navigable waters.

EPA does not collect SPCC Plans or related records from facilities on a routine basis. Preparation, implementation, and maintenance of the SPCC Plan by the facility helps prevent oil discharges and mitigate the environmental damage caused by such discharges. Therefore, the primary user of the data is the facility itself.

Although the facility is the primary user of the data, EPA uses the data in certain situations. EPA's primary use of the data contained in an SPCC Plan is to ensure that a facility is in full compliance with all elements of the SPCC regulation, including design and operation specifications and inspection requirements. EPA reviews SPCC Plans as part of EPA's inspection program and when information is submitted because of an oil discharge. A Regional Administrator may require a facility owner or operator to amend the SPCC Plan if he finds that the facility has not met the requirements of the regulation or that Plan amendment is necessary to prevent and contain discharges of oil. If a facility does not amend its SPCC Plan, it may face civil penalties under the Clean Water Act.

State and local governments are also users of the data. The information provided in SPCC Plans (e.g., facility configuration, capabilities, and potential risks) is not necessarily available elsewhere and can greatly assist local emergency preparedness planning efforts. The Plan should be compatible and coordinated with local emergency plans, including those developed under Title III of the Superfund Amendments and Reauthorization Act of 1986 (Pub. L. 99-499). Coordination with state governments is facilitated by the provision in § 112.4(c) requiring that, after certain discharges, information on the discharge be sent to the relevant state agencies. The flexibility with respect to formatting in this rule promotes greater coordination with State planning efforts because the use of plans prepared pursuant to state regulations is encouraged. None of the information to be gathered for this collection is believed to be confidential.

Burden Statement: The annual public reporting and recordkeeping burden for this collection of information is estimated to average 4 hours per response for existing facilities and 38 hours per response for newly regulated facilities. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: The industries that are likely to be covered by the SPCC regulation fall into many North American Industrial Classification System (NAICS) categories, including those associated with petroleum and non-petroleum oil production, processing (refining), distribution, storage, and consumption. Oil production facilities (28 percent), farms (25 percent), and electric utilities (8 percent) account for most of the SPCC-regulated facilities.

Estimated Number of Respondents: 623,288.

Frequency of Response: On occasion.

Estimated Total Annual Hour Burden: 2,385,701 hours.

Estimated Total Annual Cost: $158 million, includes $52 million annualized capital and O&M costs and $106 million labor costs.

Changes in the Estimates: There is an increase of 796,449 hours in the total estimated burden currently identified in the OMB Inventory of Approved ICR Burdens. This increase is due to adjustments to the estimates for the number of affected facilities, burden values, and labor rates.

Dated: February 23, 2006.
Oscar Morales,
Director, Collection Strategies Division.

[FR Doc. E6-3285 Filed 3-7-06; 8:45 am]

BILLING CODE 6560-50-P